DEPARTMENT OF TRANSPORTATION

Federal Aviation Administration

14 CFR Part 150

[Docket No. FAA-2004-19158; Amendment No. 150-4]

RIN 2120-AI37

Airport Noise Compatibility Planning

Correction

In rule document 04-21298 beginning on page 57622 in the issue of Friday, September 24, 2004, make the following correction:

Appendix A to Part 150—[Corrected]

On page 57626, in the third column, in Appendix A to Part 150, the heading “PART B—NOISE EXPOSURE MAY DEVELOPMENT” should read “PART B—NOISE EXPOSURE MAP DEVELOPMENT”.

[FR Doc. C4-21298 Filed 10-15-04; 8:45 am]

BILLING CODE 1505-01-D